SECURITIES AND EXCHANGE COMMISSION

[Release No. 34-78029; File No. SR-NYSEMKT-2016-45]

Self-Regulatory Organizations; NYSE MKT LLC; Suspension of and Order Instituting Proceedings To Determine Whether To Approve or Disapprove a Proposed Rule Change To Modify the NYSE Amex Options Fee Schedule With Respect to Fees, Rebates, and Credits for Transactions in the Customer Best Execution Auction

June 9, 2016.

Correction

In notice document 2016-14086, beginning on page 39089 in the issue of Wednesday, June 15, 2016, make the following corrections:

1. On page 39091, in the third column, in the ninth and tenth lines, “July 5, 2016” should read “July 6, 2016”.

2. On the same page, in the eleventh line, “July 19, 2016” should read “July 20, 2016”.

[FR Doc. C1-2016-14086 Filed 6-28-16; 8:45 am]

BILLING CODE 1505-01-D